NUCLEAR REGULATORY COMMISSION

Advisory Committee on Reactor Safeguards (ACRS) Subcommittee Meeting on Thermal-Hydraulic Phenomena; Cancelled; Notice of Cancelled Meeting

The Federal Register Notice for the ACRS Subcommittee meeting on Thermal-Hydraulic Phenomena scheduled to be held on Tuesday, April 8, 2008 has been cancelled. This meeting was published previously in the Federal Register on Friday, March 28, 2008 (73 FR 16731).

For Further Information Contact: Mr. David Bessette, Designated Federal Official (Telephone: 301-415-8065) between 7:45 a.m. and 4:30 p.m. (ET) or by e-mail at David.Bessette@nrc.gov.

Dated: April 4, 2008.
Cayetano Santos,
Branch Chief, ACRS.

[FR Doc. E8-7712 Filed 4-10-08; 8:45 am]

BILLING CODE 7590-01-P